DEPARTMENT OF THE INTERIOR

Bureau of Land Management

[AZ-956-09-1420-00]

Arizona; Notice of Filing of Plats of Survey

October 9, 2001.

1. The plats of survey of the following described land were officially filed in the Arizona State Office, Phoenix, Arizona, on the dates indicated:

A plat representing the dependent resurvey of the Seventh Standard Parallel North, through Range 18 East, (N. Bdy.), the south and east boundaries and a portion of the subdivisional lines, Township 28 North, Range 18 East, of the Gila and Salt River Meridian, Arizona, accepted August 20, 2001 and officially filed August 30, 2001.

This plat was prepared at the request of the Bureau of Indian Affairs, Western Regional Office.

A plat representing the dependent resurvey of the Seventh Standard Parallel North, through Range 19 East, (N. Bdy.), the south boundary and a portion of the subdivisional lines, and the survey of the east boundary and a portion of the subdivisional lines, Township 28 North, Range 19 East, of the Gila and Salt River Meridian, Arizona, accepted September 5, 2001 and officially filed September 14, 2001.

This plat was prepared at the request of the Bureau of Indian Affairs, Western Regional Office.

A plat representing the dependent resurvey of a portion of the west and south boundaries, a portion of the boundary of Management District Number 6, Hopi Indian Reservation, and a portion of segment “B” of the Navajo-Hopi Partition Line, and the survey of the Seventh Standard Parallel North through Range 20 East, (N. Bdy.), the Fifth Guide Meridian East through Township 28 North, (E. Bdy.), and the subdivisional lines, Township 28 North, Range 20 East, of the Gila and Salt River Meridian, Arizona, accepted September 17, 2001 and officially filed September 21, 2001.

This plat was prepared at the request of the Bureau of Indian Affairs, Western Regional Office.

A plat representing the survey of the south and east boundaries and the subdivisional lines, Township 36 North, Range 27 East, of the Gila and Salt River Meridian, Arizona, accepted August 23, 2001 and officially filed August 30, 2001.

This plat was prepared at the request of the Bureau of Indian Affairs, Navajo Regional Office.

A plat representing the dependent resurvey of Mineral Survey Numbers 689 and 690 and a metes-and-bounds survey in Mineral Survey Number 689, Township 13 North, Range 1 West, of the Gila and Salt River Meridian, Arizona, accepted July 10, 2001 and officially filed July 19, 2001.

This plat was prepared at the request of the United States Forest Service.

A plat in five sheets representing the dependent resurvey of a portion of the Gila and Salt River Base Line, a portion of the east and west boundaries and a portion of the subdivisional lines, the subdivision of section 13 and the metes-and-bounds survey of the Eagletail Mountains Wilderness Area boundary, Township 1 North, Range 10 West, of the Gila and Salt River Meridian, Arizona, accepted July 23, 2001 and officially filed August 3, 2001.

This plat was prepared at the request of the Bureau of Land Management, Arizona State Office.

A plat representing the metes-and-bounds survey of the Eagletail Mountains Wilderness Area boundary, in unsurveyed Township 1 North, Range 11 West, of the Gila and Salt River Meridian, Arizona, accepted July 23, 2001 and officially filed August 3, 2001.

This plat was prepared at the request of the Bureau of Land Management, Arizona State Office.

A plat in four sheets representing the dependent resurvey of a portion of the subdivisional lines, and the subdivision of sections 21 and 28, and the metes-and-bounds survey of the Eagletail Mountains Wilderness Area boundary, Township 2 North, Range 11 West, of the Gila and Salt River Meridian, Arizona, accepted July 23, 2001 and officially filed August 3, 2001.

This plat was prepared at the request of the Bureau of Land Management, Arizona State Office.

A plat in four sheets representing the dependent resurvey of a portion of the Gila and Salt River Base Line and a portion of the subdivisional lines and the metes-and-bounds survey of the Eagletail Mountains Wilderness Area boundary, Township 1 North, Range 12 West, of the Gila and Salt River Meridian, Arizona, accepted July 30, 2001 and officially filed August 10, 2001.

This plat was prepared at the request of the Bureau of Land Management, Arizona State Office.

A plat in three sheets representing the dependent resurvey of a portion of the south boundary and the metes-and-bounds survey of the Eagletail Mountains Wilderness Area boundary in Township 2 North, Range 12 West, of the Gila and Salt River Meridian, Arizona, accepted July 30, 2001 and officially filed August 10, 2001.

This plat was prepared at the request of the Bureau of Land Management, Arizona State Office.

A plat in five sheets representing the dependent resurvey of a portion of the Gila and Salt River Base Line, Township 1 North, Range 9 West, a portion of the east and west boundaries and a portion of the subdivisional lines, the subdivision of sections 16 and 19 and the metes-and-bounds survey of the Eagletail Mountains Wilderness Area boundary, Township 1 South, Range 10 West, of the Gila and Salt River Meridian, Arizona, accepted July 30, 2001 and officially filed August 10, 2001.

This plat was prepared at the request of the Bureau of Land Management, Arizona State Office.

A plat in four sheets representing the dependent resurvey of a portion of the subdivisional lines, the subdivision of sections 24 and 26 and the metes-and-bounds survey of the Eagletail Mountains Wilderness Area boundary, Township 1 South, Range 11 West, of the Gila and Salt River Meridian, Arizona, accepted July 30, 2001 and officially filed August 10, 2001.

This plat was prepared at the request of the Bureau of Land Management, Arizona State Office.

A plat in three sheets representing the dependent resurvey of a portion of the south boundary and the metes-and-bounds survey of the Eagletail Mountains Wilderness Area boundary, Township 1 South, Range 12 West, of the Gila and Salt River Meridian, Arizona, accepted July 30, 2001 and officially filed August 10, 2001.

This plat was prepared at the request of the Bureau of Land Management, Arizona State Office.

A plat representing the metes-and-bounds survey of the Eagletail Mountains Wilderness Area boundary, Township 2 South, Range 12 West, of the Gila and Salt River Meridian, Arizona, accepted July 30, 2001 and officially filed August 10, 2001.

This plat was prepared at the request of the Bureau of Land Management, Arizona State Office.

A plat representing the dependent resurvey of a portion of the west boundary and a portion of the subdivisional lines, the subdivision of section 19 and a metes-and-bounds survey in section 19, Township 12 South, Range 19 East, of the Gila and Salt River Meridian, Arizona, accepted August 31, 2001 and officially filed September 7, 2001.

This plat was prepared at the request of the Bureau of Land Management, Arizona State Office.

These plats will immediately become the basic records for describing the land for all authorized purposes. These plats have been placed in the open files and are available to the public for information only.

2. All inquiries relating to these lands should be sent to the Arizona State Office, Bureau of Land Management, 222 N. Central Avenue, P.O. Box 1552, Phoenix, Arizona 85001-1552.

Kenny D. Ravnikar,
Chief Cadastral Surveyor of Arizona.

[FR Doc. 02-2157 Filed 1-28-02; 8:45 am]

BILLING CODE 4310-32-P